DEPARTMENT OF HEALTH AND HUMAN SERVICES

Office of the Secretary

Statement of Organization, Functions and Delegations of Authority

Part A (Office of the Secretary), Statement of Organization, Functions, and Delegations of Authority of the Department of Health and Human Services (HHS) is being amended at Chapter AE, Office of the Assistant Secretary for Planning and Evaluation (ASPE), as last amended at 66 FR 61341-42 dated September 30, 2002 and most recently at 73 FR 19977, dated April 16, 2010 and at 76 FR 19361-62, dated April 7, 2011. This notice establishes a fourth division under the Office of Health Policy (HP) and restate's HP's functional statement in its entirety. The changes are as follows:

I. Under Section AE.20 Functions, deleted Paragraph B, Office of Health Policy (AEH), in its entirety and replace with the following:

B. The Office of Health Policy (AEH)

The Office of Health Policy (HP) is responsible for policy development and coordination and for the conduct and coordination of research, evaluation, and data, on matters relating to health systems, services, and financing. Functions include policy and long-range planning; policy, economic, program and budget analysis; evaluation; review of regulations and development of legislation. Health policy matters includes public health, health services and systems, public and private health insurance, health care financing, health care quality, consumer health information, and the interaction among these matters and sectors. HP is responsible for developing and coordinating a health policy research, information, and analytical program to gain information concerning health services, public health, delivery systems and financing. The Office works closely with other ASPE and HHS offices on these matters, coordinates and shares information across Federal agencies, and collaborates with the health policy and health services research community. HP works closely with the Department's Centers for Medicare & Medicaid Services, the Agency for Healthcare Research and Quality, the Health Resources and Services Administration, the Indian Health Service, The Office of the Assistant Secretary of Health, the Substance Abuse and Mental Health Services Administration, and other HHS agencies.

1. The Division of Health Care Financing Policy (AEH1) is responsible for policies and functions of the office concerning health care financing and health care costs, principally Federal health care financing related to the Department's Medicare program, including matters concerning structural changes and modernization for the long-term, such as drug benefits, coverage and eligibility, new technology, new delivery systems, and payments for services. This includes development of studies, policies, and mechanisms concerning the financing and delivery of health care for the Medicare population as well as evaluations of programs and delivery system innovations. The division monitors, analyzes, and maintains liaison with programs and policies in the Department and outside the Department that effect functions of the Division.

2. The Division of Public Health Services Policy (AEH2) is responsible for the functions of the office related to public health services and policies. The division conducts and develops analyses, studies, evaluations, and guidelines on matters such as: monitoring and addressing public health services resources and needs; assessing the design and effectiveness of health promotion/disease prevention endeavors; monitoring and addressing health disparities; projecting workforce needs; developing options for addressing workforce needs and shortages; developing options for improving the interaction between the medical services delivery system and population-based public health services; and addressing numerous other issues affecting both public and private healthcare services endeavors. The division monitors, analyzes, and maintains liaison with programs and policies both inside and outside the Department that effect functions of the Division's mission.

3. The Division of Health Care Access and Coverage Policy (AEH3) focuses on oversight of the private health insurance marketplace and the financing and delivery of health care services for low-income populations. The division is responsible for the functions of the office with respect to private health insurance, the Medicaid program, the Children's Health Insurance Program, coverage for the uninsured, and other policies and programs to help low income individuals and families have access to health care services. This includes development of studies, policies, and mechanisms that integrate the financing and delivery of health care services for this population. This division will collaborate with the Division of Health Care Financing Policy on issues effecting populations who are dually eligible for Medicare and Medicaid and other crosscutting areas. The division monitors, analyzes, and maintains liaison with programs and policies in the Department and outside the Department that effect functions of the Division.

4. The Division of Health Care Quality and Outcomes Policy (AEH4) is responsible for functions related to quality measurement and improvement, performance reporting and performance incentives, and patient-centered outcomes research. This includes development of studies, policies, and mechanisms to support data infrastructure development to support outcomes research as well as developing and disseminating evidence relating to patient outcomes research. The division monitors, analyzes, and maintains liaison with programs and policies in the Department and outside the Department that effect functions of the Division.

II. Delegations of Authority: All delegations and redelegations of authority made to officials and employees of affected organizational components will continue in them or their successors pending further redelegation, provided they are consistent with this reorganization.

Dated: September 19, 2011.
E.J. Holland, Jr.,
Assistant Secretary for Administration.

[FR Doc. 2011-24621 Filed 9-23-11; 8:45 am]

BILLING CODE 4150-04-P